SMALL BUSINESS ADMINISTRATION

Announcement of Funding Pool Size for the Growth Accelerator Fund Competition

AGENCY: U.S. Small Business Administration

ACTION: Notice.

SUMMARY: On May 4, 2016, the U.S. Small Business Administration (SBA) published a notice in the Federal Register (81 FR 26861) to announce the 2016 Growth Accelerator Fund Competition, pursuant to the America Competes Act (15 U.S.C. 3719), to identify the nation's most innovative accelerators and similar organizations and award them cash prizes they may use to fund their operations costs and allow them to bring startup companies to scale and new ideas to life, including providing assistance to small businesses submitting proposals through the Small Business Innovation Research and/or Small Business Technology Transfer Programs (SBIR/STTR). In partnership with several U.S. agencies, SBA will be awarding prizes to winners from a total funding pool size of up to $3.4 million. The $50,000 prize to each winner will be paid from the total funding pool, including SBA's appropriated funds, and will be provided to each winner via check. This notice serves as an update to the original notice affecting only the funding pool size of prizes to be awarded to competition winners. All rules and requirements outlined in the May 4, 2016, Federal Register notice will remain in effect.

Competition Details

• Prizes for Winners: SBA is partnering with the National Institutes of Health (NIH), the National Science Foundation (NSF), and the Department of Education (DoED) to create a total funding pool size of up to $3.4 million to provide additional prizes to accelerators that assist entrepreneurs in submitting SBIR/STTR proposals. Special consideration will be given to accelerator models that support women-owned or minority-owned small businesses and/or that assist entrepreneurs with submitting SBIR/STTR proposals. SBA's Office of Investment and Innovation (OII) will also be partnering with the Office of Native American Affairs (ONAA) and the Office of Veterans Business Development (OVBD) to award additional prizes to accelerators assisting the Native American and U.S. Veterans start-up community. SBA anticipates awarding up to 68 market stimulation cash prizes of $50,000 each to the highest-rated contestants that also represent the greatest degree of achieving national geographic distribution in both urban and rural areas, including at minimum: 14 accelerator models focused in Native American populations (American Indian, Alaska Native or Native Hawaiian); 2 accelerator models focused on the Veterans community and Veteran entrepreneurship; 20 accelerator models focused on life-sciences (medical); 10 accelerator models focused on science and engineering (non-medical), and 2 accelerator models focused on education research technology. SBA is also partnering with the Inter-American Development Bank (IDB) to provide a prize directly from IDB to 1 accelerator model focused on assisting the African descendant start-up community in Latin America and the Caribbean. Prizes will be paid in lump sum via the Automated Clearing House (ACH). Winners will be required to create an account in the System for Award Management (SAM) in order to receive an award.

Authority: Pub. L. 111-358 (2011).

Dated: July 27, 2016.
Mark Walsh,
Associate Administrator, Office of Investment and Innovation.

[FR Doc. 2016-18244 Filed 8-1-16; 8:45 am]

BILLING CODE 8025-01-P